ENVIRONMENTAL PROTECTION AGENCY

40 CFR Part 52

[EPA-R04-OAR-2017-0078; FRL-9969-42-Region 4]

Air Plan Approval: Georgia; New Source Review and Permitting Updates

AGENCY: Environmental Protection Agency (EPA).

ACTION: Withdrawal of direct final rule.

SUMMARY: Due to the receipt of an adverse comment, the Environmental Protection Agency (EPA) is withdrawing the August 15, 2017, direct final rule that approves changes to Georgia's state implementation plan (SIP) related to new source review (NSR) permitting for prevention of significant deterioration (PSD). EPA will address the comment in a separate final action based upon the proposed rulemaking action, also published on August 15, 2017. EPA will not institute a second comment period on this action.

DATES: The direct final rule published at 82 FR 38605, on August 15, 2017, is withdrawn effective October 16, 2017.

FOR FURTHER INFORMATION CONTACT: D. Brad Akers, Air Regulatory Management Section, Air Planning and Implementation Branch, Air, Pesticides and Toxics Management Division, U.S. Environmental Protection Agency, Region 4, 61 Forsyth Street SW., Atlanta, Georgia 30303-8960. Mr. Akers can be reached via telephone at (404) 562-9089 or via electronic mail at akers.brad@epa.gov.

SUPPLEMENTARY INFORMATION: On August 15, 2017 (82 FR 38605), EPA published a direct final rule approving portions of several SIP revisions submitted by the State of Georgia, through the Georgia Department of Natural Resources' Environmental Protection Division (GA EPD), on December 15, 2011, July 25, 2014, and November 12, 2014. EPA took a direct final action to approve portions of the December 15, 2011, July 25, 2014, and November 12, 2014, submissions that made changes to the following GA EPD regulations: Rule 391-3-1-.02(7)—“Prevention of Significant Deterioration of Air Quality (PSD),” which applies to the construction and modification of any major stationary source in areas designated as attainment or unclassifiable as required by part C of title I of the CAA; and Rule 391-3-1-.03(8)—“Permit Requirements,” which applies generally to the permitting program, including permitting requirements that apply to the construction and modification of any major stationary sources in nonattainment areas as required by part D of title I of the CAA, referred to as nonattainment new source review.

In the direct final rule, EPA explained that the Agency was publishing the rule without prior proposal because the Agency viewed the submittal as a non-controversial SIP amendment and anticipated no adverse comments. Further, EPA explained that the Agency was publishing a separate document in the proposed rules section of the Federal Register to serve as the proposal to approve the SIP revisions should an adverse comment be filed. EPA also noted that the rule would be effective generally 30 days after the close of the public comment period, without further notice unless the Agency received adverse comment by the close of the public comment period. EPA explained that if the Agency received such comments, then EPA would publish a document withdrawing the final rule and informing the public that the rule would not take effect. EPA specified, however, that if a comment were received on an amendment, paragraph, or section of this rule and if that provision may be severed from the remainder of the rule, EPA may adopt as final those provisions of the rule that are not the subject of an adverse comment. It was also explained that all public comments received would then be addressed in a subsequent final rule based on the proposed rule, and that EPA would not institute a second comment period on this action.

EPA received one adverse comment from a single Commenter on the portion of the direct final rule that made changes to Rule 391-3-1-.02(7) only, as submitted in the November 12, 2014, SIP revision. As a result of the comment received, EPA is withdrawing the direct final rule. EPA will address the comment in a separate final action based on the proposed action also published on August 15, 2017 (82 FR 38646). EPA will not open a second comment period for this action.

List of Subjects in 40 CFR Part 52

Environmental protection, Air pollution control, Carbon monoxide, Incorporation by reference, Lead, Nitrogen dioxide, Ozone, Particulate matter, Sulfur oxides, Volatile organic compounds

Dated: September 29, 2017.
Onis “Trey” Glenn, III,
Regional Administrator, Region 4.

PART 52—APPROVAL AND PROMULGATION OF IMPLEMENTATION PLANS

Accordingly, the amendments to 40 CFR 52.570(c) published on August 15, 2017 (82 FR 38605), are withdrawn effective October 16, 2017.

[FR Doc. 2017-22251 Filed 10-13-17; 8:45 am]

BILLING CODE 6560-50-P